DEPARTMENT OF ENERGY

Federal Energy Regulatory Commission

Sunshine Act; Notice

The Following Notice of meeting is published pursuant to section 3(a) of the Government in the Sunshine Act (Pub. L. No. 94-409), 5 U.S.C. 552B:

AGENCY HOLDING MEETING: Federal Energy Regulatory Commission.

DATE AND TIME: January 24, 2001, 10 a.m.

PLACE: Room 2C, 888 First Street, NE. Washington, DC 20426.

STATUS: Open.

MATTERS TO BE CONSIDERED: Agenda.

Note. Items Listed on the Agenda may be deleted without further notice.

CONTACT PERSON FOR MORE INFORMATION: David P. Boergers, Secretary Telephone (202) 208-0400, for a recording listing items Stricken from or added to the meeting, call (202) 208-1627.

This is a list of matters to be considered by the Commission. It does not include a listing of all papers relevant to the items on the agenda; however, all public documents may be examined in the Reference and Information Center.

758th—Meeting January 24, 2001 Regular meeting (10 a.m.)

Consent Agenda—Markets, Tariffs and Rates—Electric

CAE-1.

Docket# ER01-513, 000, Sithe Edgar LLC, Sithe New Boston LLC, Sithe Framingham LLC, Sithe West Medway LLC, Sithe Wyman LLC, Sithe Mystic LLC, AG-Energy, L.P., Power City Partners, L.P., Seneca Power Partners, L.P., Sterling Power Partners, L.P., Sithe Power Marketing, L.P and Sithe Power Marketing, INC.

CAE-2.

Docket# ER01-592, 000, Western Resources, Inc.

Other#s ER01-615, 000 ,Public Service Company of New Mexico

CAE-3.

Docket# ER01-123, 000, Illinois Power Company

CAE-4.

Docket# ER01-563, 000, Conectiv Energy Supply, Inc. and Delmarva Power & Light Company

Other#s ER00-1770, 002, Delmarva Power & Light Company, Conectiv Delmarva Generation, Inc., Atlantic City Electric Company, Conectiv Atlantic Generation, LLC and Conectiv Energy Supply, Inc.

ER00-3322, 002, Delmarva Power & Light Company, Conectiv Delmarva Generation, Inc., Atlantic City Electric Company, Conectiv Atlantic Generation, LLC and Conectiv Energy Supply, Inc.

CAE-5.

Docket# EC01-13, 000, Bangor Hydro-Electric Company and Emera Incorporated

CAE-6.

Docket# ER97-3463, 001, Pennsylvania-New Jersey-Maryland Interconnection

CAE-7.

Docket# ER99-2028, 001, PJM Interconnection, L.L.C.

CAE-8.

Docket# ER99-3144, 003, Alliance Companies, American Electric Power Service Corporation on Behalf of: Appalachian Power Company, Columbus Southern Power Company, Indiana Michigan Power Company, Kentucky Power Company, Kingsport Power Company, Ohio Power Company, Wheeling Power Company, Consumers Energy Company, the Detroit Edison Company, First Energy Corporation on Behalf of: the Cleveland Electric Illuminating Company, Ohio Edison Company, Pennsylvania Power Company, the Toledo Edison Company and Virginia Electric and Power Company

Other# EC99-80, 003, Alliance Companies, American Electric Power Service Corporation on behalf of: Appalachian Power Company, Columbus Southern Power Company, Indiana Michigan Power Company, Kentucky Power Company, Kingsport Power Company, Ohio Power Company, Wheeling Power Company, Consumers Energy Company, the Detroit Edison Company, First Energy Corporation on behalf of: the Cleveland Electric Illuminating Company, Ohio Edison Company, Pennsylvania Power Company, the Toledo Edison Company and Virginia Electric and Power Company

EC99-80, 004, Alliance Companies, American Electric Power Service Corporation on behalf of: Appalachian Power Company, Columbus Southern Power Company, Indiana Michigan Power Company, Kentucky Power Company, Kingsport Power Company, Ohio Power Company, Wheeling Power Company, Consumers Energy Company, the Detroit Edison Company, First Energy Corporation on behalf of: the Cleveland Electric Illuminating Company, Ohio Edison Company, Pennsylvania Power Company, the Toledo Edison Company and Virginia Electric and Power Company

EC99-80, 005, Alliance Companies, American Electric Power Service Corporation on behalf of: Appalachian Power Company, Columbus Southern Power Company, Indiana Michigan Power Company, Kentucky Power Company, Kingsport Power Company, Ohio Power Company, Wheeling Power Company, Consumers Energy Company, the Detroit Edison Company, First Energy Corporation on behalf of: the Cleveland Electric Illuminating Company, Ohio Edison Company, Pennsylvania Power Company, the Toledo Edison Company and Virginia Electric and Power Company

ER99-3144, 004, Alliance Companies, American Electric Power Service Corporation on behalf of: Appalachian Power Company, Columbus Southern Power Company, Indiana Michigan Power Company, Kentucky Power Company, Kingsport Power Company, Ohio Power Company, Wheeling Power Company, Consumers Energy Company, the Detroit Edison Company, First Energy Corporation on behalf of: the Cleveland Electric Illuminating Company, Ohio Edison Company, Pennsylvania Power Company, the Toledo Edison Company and Virginia Electric and Power Company

ER99-3144, 005, Alliance Companies, American Electric Power Service Corporation on behalf of: Appalachian Power Company, Columbus Southern Power Company, Indiana Michigan Power Company, Kentucky Power Company, Kingsport Power Company, Ohio Power Company, Wheeling Power Company, Consumers Energy Company, Detroit Edison Company, First Energy Corporation on behalf of: the Cleveland Electric Illuminating Company, Ohio Edison Company, Pennsylvania Power Company, the Toledo Edison Company and Virginia Electric and Power Company

EC00-103, 000, Consumers Energy Company

ER00-2869, 000, Consumers Energy Company

CAE-9.

Docket# EC00-49, 002, Consolidated Edison, Inc. and Northeast Utilities

CAE-10.

Docket# ER01-66, 001, Pacific Gas and Electric Company

CAE-11.

Omitted

CAE-12.

Docket# ER01-103, 000, Firstenergy Services, Inc.

Other#s ER01-103, 001, Firstenergy Services, Inc.

CAE-13.

Docket# EL01-13, 000, Duke Energy Corporation, Carolina Power & Light Company, South Carolina Electric & Gas Company and Gridsouth Transco, LLC

CAE-14.

Docket# EL00-116, 000, Alliance for Municipal Power

CAE-15.

Docket# ER93-150, 017, Boston Edison Company

Other#s EL93-10, 010, Boston Edison Company

CAE-16.

Docket# EC00-137, 000, Connecticut Light and Power Company, Western Massachusetts Electric Company, United Illuminating Company, Central Maine Power Company, Fitchburg Gas and Electric Light Company, New England Power Company, Public Service Company of New Hampshire, Dominion Resources, Inc., and Dominion Nuclear Connecticut, Inc.

CAE-17.

Docket# ER00-1439, 002, Automated Power Exchange, Inc.

Other#s ER00-1439, 001, Automated Power Exchange, Inc.

Consent Agenda—Markets, Tariffs and Rates—Gas

CAG-1.

Omitted

CAG-2.

Omitted

CAG-3.

Docket# RP01-196, 000, Venice Gathering System, L.L.C.

CAG-4.

Docket# RP01-177, 000, Cove Point LNG Limited Partnership

CAG-5.

Docket# RP01-205, 000, Southern Natural Gas Company

CAG-6.

Docket# RP96-383, 016, Dominion Transmission, Inc.

CAG-7.

Docket# PR00-12, 000, Louisiana Intrastate Gas Company, L.L.C.

CAG-8.

Docket# RP96-383, 017, Dominion Transmission, Inc.

CAG-9.

Docket# RP00-627, 001, Northern Natural Gas Company

CAG-10.

Docket# RP97-71, 021, Transcontinental Gas Pipe Line Corporation

Other#s RP97-71, 020, Transcontinental Gas Pipe Line Corporation

CAG-11.

Docket# RP96-272, 025, Northern Natural Gas Company

Other#s RP96-272, 021, Northern Natural Gas Company

CAG-12.

Docket# MG01-4, 000, El Paso Natural Gas Company

CAG-13.

Docket# MG00-10, 000, Northwest Pipeline Corporation

CAG-14.

Docket# MG00-1, 002, Clear Creek Storage Company, L.L.C.

CAG-15.

Docket# MG00-11, 000, Kern River Gas Transmission Company

CAG-16.

Docket# RP01-189, 000, Northern Nevada Industrial Gas Users v. Northwest Pipeline Corporation

CAG-17.

Omitted

CAG-18.

Omitted

Consent Agenda—Energy Projects—Hydro

CAH-1.

Docket# P-2069, 004, Arizona Public Service Company

CAH-2.

Docket# P-4632, 027, Clifton Power Corporation

CAH-3.

Omitted

Consent Agenda—Energy Projects—Certificates

CAC-1.

Docket# CP97-168, 005, Alliance Pipeline L. P.

CAC-2.

Docket# CP00-374, 000, Kinder Morgan Interstate Gas Transmission LLC

Other#s CP00-375, 000, K N Energy, a Division of Kinder Morgan, Inc.

CAC-3.

Omitted

CAC-4.

Omitted

CAC-5.

Docket# RP00-220, 001, Town of Neligh, Nebraska v. Kinder Morgan Interstate Gas Transmision, L.L.C. And K N Energy, a Division of Kinder Morgan, Inc.

Other#s RP00-220, 000, Town of Neligh, Nebraska v. Kinder Morgan Interstate Gas Transmission, L.L.C. And KN Energy, a Division of Kinder Morgan, Inc.

CAC-6.

Omitted

CAC-7.

Docket# CP99-241, 002, ANR Pipeline Company

CAC-8.

Docket# CP01-57, 000, Suncor Development Company

CAC-9.

Docket# CP00-166, 000, Williams Gas Pipelines Central, Inc.

Energy Projects—Hydro Agenda

H-1.

Reserved

Energy Projects—Certificates Agenda

C-1.

Reserved

Markets, Tariffs and Rates—Electric Agenda

E-1.

Reserved

Markets, Tariffs and Rates—Gas Agenda

G-1.

Reserved

David P. Boergers,
Secretary.

[FR Doc. 01-1961 Filed 1-18-01; 11:01 am]

BILLING CODE 6717-01-U